DEPARTMENT OF TRANSPORTATION

Federal Railroad Administration

49 CFR Parts 221 and 235

[Docket No. FRA-2004-17529; Notice No. 2]

RIN 2130-AB61

Inflation Adjustment of the Maximum and Minimum Civil Monetary Penalties for Violation of a Railroad Safety Law or Regulation; Corrections

AGENCY: Federal Railroad Administration (FRA), Department of Transportation (DOT).

ACTION: Final rule; correcting amendments.

SUMMARY: On May 28, 2004, FRA published a final rule, which increased the minimum and aggravated maximum civil monetary penalties it applies when assessing a civil penalty for a violation of railroad safety statutes and regulations under its authority. In preparing that final rule for publication, six minor typographical errors were made. These amendments correct the typographical errors published in the final rule.

DATES: The corrections to the final rule are effective on October 28, 2004.

FOR FURTHER INFORMATION CONTACT: Melissa L. Porter, Trial Attorney, Federal Railroad Administration, 1120 Vermont Avenue, NW., Mail Stop 10, Washington, DC 20003, (202) 493-6034, Melissa.Porter@fra.dot.gov.

SUPPLEMENTARY INFORMATION: The errors included in the final rule published on May 28, 2004 (69 FR 30591) consisted of twice listing incorrect appendices to be amended (appendix A to part 221 instead of appendix C; and appendix A to part 241 instead of appendix B), inserting the incorrect monetary amount in one amendment (to part 235), and listing the incorrect section to be amended in (§ 231.11 instead of § 233.11) another amendment. All of the typographical errors were obvious from their context. FRA is correcting these minor errors so that the final rule clearly conforms to FRA's intent.

List of Subjects in 49 CFR Parts 221 and 235

Railroad safety, Penalties.

The Final Rule

In accordance with the foregoing, 49 CFR parts 221, 233, 235, and 241, chapter II, subtitle B of title 49, Code of Federal Regulations are corrected by making the following correcting amendments:

PART 221—[AMENDED]

1. The authority citation for part 221 continues to read as follows:

Authority: 49 U.S.C. 20103, 20107; 28 U.S.C. 2461, note; and 49 CFR 1.49.

Appendix C to Part 221—[Amended]

2. Footnote 1 to appendix C of part 221 is amended by removing the numerical amount “$20,000” and adding in its place the numerical amount “$27,000”.

PART 235—[AMENDED]

3. The authority citation for part 235 continues to read as follows:

Authority: 49 U.S.C. 20103, 20107; 28 U.S.C. 2461, note; and 49 CFR 1.49.

Appendix A to Part 235—[Amended]

4. Footnote 1 to appendix A of part 235 is amended by removing the numerical amount “$20,000” and adding in its place the numerical amount “$27,000”.

Issued in Washington, DC, on October 22, 2004.
Betty Monro,
Acting Administrator, Federal Railroad Administration.

[FR Doc. 04-24147 Filed 10-27-04; 8:45 am]

BILLING CODE 4910-06-P